DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 25, 2005.

Interested persons are invited to submit written comments regarding the subject matter of the investigations to the Director, Division of Trade Adjustment Assistance, at the address shown below, not later than June 25, 2005.

The petitions filed in this case are available for inspection at the Office of the Director, Division of Trade Adjustment Assistance, Employment and Training Administration, U.S. Department of Labor, Room C-5311, 200 Constitution Avenue, NW., Washington, DC 20210.

Signed at Washington, DC, this 28th day of June, 2005.
Timothy Sullivan,
Director, Division of Trade Adjustment Assistance.

Appendix
[Petitions instituted between 06/06/2005 and 06/10/2005]
TA-W | Subject firm (petitioners) | Location | Date of institution | Date of petition
57,315 | Magruder Color (State) | Elizabeth, NJ | 06/06/2005 | 06/06/2005
57,316 | Flow Robotic Systems, Inc. (Wkrs) | Wixom, MI | 06/06/2005 | 06/06/2005
57,317 | Power-One (Wkrs) | Andover, MA | 06/06/2005 | 06/06/2005
57,318 | Seneca Foods Corp. (Wkrs) | Dayton, WA | 06/06/2005 | 06/03/2005
57,319 | L.R. Nelson Corporation (State) | Peoria, IL | 06/06/2005 | 06/02/2005
57,320 | Sabre Inc. (NPS) | Southlake, TX | 06/06/2005 | 06/03/2005
57,321 | Reum Corporation (State) | Waukegan, IL | 06/07/2005 | 06/06/2005
57,322 | Danaher Tool Group (State) | West Hartford, CT | 06/07/2005 | 06/07/2005
57,323 | American Safety Razor Company (Comp) | Knoxville, TN | 06/07/2005 | 06/01/2005
57,324 | Plymouth Rubber Co., Inc. (Comp) | Canton, MA | 06/07/2005 | 06/06/2005
57,325 | Danly IEM (AFLCIO) | Beaver Dam, WI | 06/07/2005 | 06/02/2005
57,326 | Intel Corporation (Wkrs) | Hillsboro, OR | 06/08/2005 | 06/03/2005
57,327 | WestPoint Stevens (Comp) | Lanett, AL | 06/08/2005 | 06/06/2005
57,328 | REHAU, Inc. (Comp) | Sturgis, MI | 06/08/2005 | 06/01/2005
57,329 | Kimberly-Clark (Comp) | Fort Worth, TX | 06/08/2005 | 04/01/2005
57,330 | Davy Manufacturing (Wkrs) | Collingdale, PA | 06/08/2005 | 06/01/0005
57,331 | Ready Fixtures (MCIW) | Shell Lake, WI | 06/08/2005 | 05/31/2005
57,332 | Fabry Industries (Wkrs) | Green Bay, WI | 06/08/2005 | 06/07/2005
57,333 | Ready Metal Manufacturing, Co. (Comp) | Chicago, IL | 06/08/2005 | 06/07/2005
57,334 | Century Furniture Ind. (Comp) | Longview, NC | 06/08/2005 | 06/07/2005
57,335 | Teledyne Instruments (State) | City of Industry, CA | 06/08/2005 | 06/07/2005
57,336 | United Machine Works, Inc. (Comp) | Bethel, NC | 06/08/2005 | 06/03/2005
57,337 | Bernhardt (Wkrs) | Lenoir, NC | 06/08/2005 | 05/25/2005
57,338 | Cardinal Home Products (Comp) | Linesville, PA | 06/08/2005 | 06/08/2005
57,339 | Frazer and Jones Co. (Comp) | Soway, NY | 06/08/2005 | 05/23/2005
57,340 | Top Ride Fashion (Comp) | S. El Monte, CA | 06/08/2005 | 05/16/2005
57,341 | Haggar Clothing Co. (Wkrs) | Weslaco, TX | 06/08/2005 | 05/26/2005
57,342 | Bemis Company, Inc. (Comp) | Dallas, TX | 06/09/2005 | 06/07/2005
57,343 | IBM OS Systems Support (NPS) | Royston, GA | 06/09/2005 | 06/06/2005
57,344 | Kulicke and Soffa Industries (Comp) | San Jose, CA | 06/09/2005 | 06/08/2005
57,345 | Merrimac Paper Co., Inc. (Comp) | Lawrence, MA | 06/09/2005 | 06/02/2005
57,346 | Linn, Inc. (Comp) | Parsons, TN | 06/09/2005 | 06/03/2005
57,347 | Hart Furniture Mfg. Company (State) | Corning, AR | 06/09/2005 | 06/08/2005
57,348 | Magnus Group (The) (Comp) | Emigsville, PA | 06/09/2005 | 06/09/2005
57,349 | PMC—Sierra (Comp) | Santa Clara, CA | 06/09/2005 | 06/06/2005
57,350 | Motor Appliance Corporation (IBT) | Washington, MO | 06/09/2005 | 06/09/2005
57,351 | Medicare Assoc. of United Gov't Srvs, LLC (Wkrs) | Ashland, WI | 06/09/2005 | 06/04/2005
57,352 | Specialty Filaments, Inc. (Wkrs) | Burlington, VT | 06/09/2005 | 05/23/2005
57,353 | WestPoint Stevens (Comp) | Wagram, NC | 06/10/2005 | 06/10/2005
57,354 | Visteon Systems, LLC (IUE) | Connersville, IN | 06/10/2005 | 06/10/2005
57,355 | FEMDS, Inc. (Comp) | Gaithersburg, MD | 06/10/2005 | 06/10/2005
57,356 | KeyTronicEMS (Comp) | Las Cruces, NM | 06/10/2005 | 06/08/2005
57,357 | Hewlett Packard Company (Wkrs) | Cincinnati, OH | 06/10/2005 | 05/31/2005
57,358 | Northwest Staffing Resources (State) | Beaverton, OR | 06/10/2005 | 06/09/2005
57,359A | Mid-West Metal Products Co., Inc. (Comp) | Muncie, IN | 06/10/2005 | 05/11/2005
57,359B | Mid-West Metal Products Co., Inc. (Comp) | Muncie, IN | 06/10/2005 | 05/11/2005
57,359C | Mid-West Metal Products Co., Inc. (Comp) | Muncie, IN | 06/10/2005 | 05/11/2005
57,359D | Mid-West Metal Products Co., Inc. (Comp) | Muncie, IN | 06/10/2005 | 05/11/2005
57,359 | Mid-West Metal Products Co., Inc. (Comp) | Muncie, IN | 06/10/2005 | 05/11/2005
57,360 | Lucent Technologies (Wkrs) | Columbus, OH | 06/10/2005 | 05/27/2005
57,361 | ACS—Affiliated Computer Services (Wkrs) | Kennett, MO | 06/10/2005 | 06/01/2005
57,362 | Sony Electronics (Wkrs) | San Jose, CA | 06/10/2005 | 06/01/2005
57,363 | Rhoda Lee (UNITE) | New York, NY | 06/10/2005 | 05/20/2005
57,364 | Akro-Mils (Comp) | Akron, OH | 06/10/2005 | 05/26/2005
57,365 | Best Manufacturing (Comp) | Cordele, GA | 06/10/2005 | 06/05/2005
57,366 | Office Depot (NPS) | Torrance, CA | 06/10/2005 | 06/02/2005

[FR Doc. E5-3749 Filed 7-13-05; 8:45 am]

BILLING CODE 4510-30-P